DEPARTMENT OF HEALTH AND HUMAN SERVICES

Centers for Disease Control and Prevention

[Program Announcement 00090]

Notice of Availability of Funds; Cooperative Agreement for State Unintentional Injury Intervention Programs

A. Purpose

The Centers for Disease Control and Prevention (CDC) announces the availability of fiscal year 2000 funds for a cooperative agreement for unintentional injury intervention programs, focused in five topic areas: Program to Increase Booster Seat Use Among Children Riding in Motor Vehicles (Part I); Demonstration Program to Reduce Falls Among Older Adults (Part II); Program to Prevent Fire and Fall-Related Injuries in Older Adults (Part III); Multifaceted Teen and Young Adult Bicycle Safety Program (Part IV); and, Multifaceted Program for the Prevention of Dog Bite Related Injuries (Part V). CDC is committed to achieving the health promotion and disease prevention objectives of “Healthy People 2010,” a national activity to reduce morbidity and mortality and improve the quality of life. This announcement is related to the focus area of Injury and Violence Prevention. For the conference copy of “Healthy People 2010”, visit the internet site: <http://www.health.gov/healthypeople>.

The purpose of these cooperative agreements are to develop, implement and evaluate unintentional injury prevention programs in the five priority areas.

B. Eligible Applicants

Assistance will be provided only to the official public health departments of States or their bona fide agents, including the District of Columbia, the Commonwealth of Puerto Rico, the Virgin Islands, the Commonwealth of the Northern Mariana Islands, American Samoa, Guam, federally recognized Indian tribal governments, the Federated States of Micronesia, the Republic of the Marshall Islands, and the Republic of Palau.

Note: Public Law 104-65 states that an organization described in section 501(c)(4) of the Internal Revenue Code of 1986 that engages in lobbying activities is not eligible to receive Federal funds constituting an award, grant, cooperative agreement, contract, loan, or any other form.

C. Availability of Funds

Approximately $1,300,000 is available in FY 2000 to fund up to 11 awards.

Part I—Approximately $450,000 is available to fund three awards to promote the use of Booster Seats Among Children, with an average award of approximately $150,000.

Part II—Approximately $250,000 is available to fund one award to demonstrate the effectiveness of multifaceted strategies to Reduce Falls Among Older Adults who reside in independent living situations.

Part III—Approximately $300,000 is available to fund five awards to augment existing Fire and/or Fall Prevention Programs that target Older Adults, with an average award of $60,000.

Part IV—Approximately $150,000 is available to fund one award to implement and evaluate a multi-faceted Bicycle Safety Program that targets Teens and Young Adults.

Part V—Approximately $150,000 is available to fund one award to implement and evaluate a multifaceted educational program for Dog Bite Prevention.

Applicants may submit separate applications for each part.

It is expected that the award will begin on or about September 30, 2000, and will be made for a 12-month budget period within a project period of up to 3 years. Funding estimates may change.

Continuation awards within an approved project period will be made on the basis of satisfactory progress as evidenced by required reports and the availability of funds.

Funding Preferences

In order to ensure funding distribution across the United States no more than one award will be given per State under this announcement

D. Program Requirements

In conducting the activities to achieve the purpose of this program, the recipient will be responsible for the activities under 1 (Recipient Activities), and CDC will be responsible for the activities under 2 (CDC Activities).

1. Recipient Activities

Part I—Program To Increase Booster Seat Use Among Children Riding in Motor Vehicles

(a) Identify a target community(ies) with populations of at least 50,000 that demonstrates a significant need for the proposed intervention program, and a comparable control community for each intervention community.

(b) Determine baseline use rates for booster seats among children aged 4-8 years in each of the intervention and control communities.

(c) Assess barriers to use and reasons for lack of routine use of booster seats at baseline for children 4-8 years of age in the intervention community, using community diagnosis methodology and needs assessment.

(d) Develop and implement a community-based booster seat intervention program with a sound basis in health behavior change theory to increase appropriate use of booster seats among child passengers aged 4-8 years.

(e) Collaborate with other community agencies whose program activities include children in the target age range.

(f) Evaluate the process, impact and outcome of the intervention, using at a minimum, a comparison of observed booster seat usage rates in the intervention and control communities before and after implementation of the intervention.

(g) Development of a research protocol for IRB review by all cooperating institutions participating in the research project.

(h) Compile and disseminate the results of the project.

Part II—Demonstration Program To Reduce Falls Among Older Adults

(a) Identify between one and three local communities to target community-dwelling, independent-living persons aged 65 years and older, especially women.

(b) Establish collaborative relationships with organizations that have resources, community programs, and/or expertise in fall prevention activities and elderly issues.

(c) Design and implement a fall prevention program for persons 65 and older that includes education about risk factors, environmental and behavioral prevention strategies, and identification and remediation of hazards.

(d) Develop data collection procedures for identifying new and recurrent falls and fall injuries among the program participants.

(e) Develop a tracking system to identify Emergency Department visits and hospital admissions from fall-related injuries among program participants.

(f) Develop an evaluation plan that includes both process and outcome evaluation. Evaluate program effectiveness by quantifying outcomes among program participants.

(g) Development of a research protocol for IRB review by all cooperating institutions participating in the research project.

(h) Compile and disseminate results of the prevention program.

Part III—Program To Prevent Fire and Fall-Related Injuries Among Older Adults

(a) Identify a minimum of 3 separate localities in the State with a significant independent-living older adult population.

(b) Determine the baseline and follow-up fire and fall rates in these communities, and specific rates for adults 65 years and older, as well as separately for adults 75 years and older.

(c) Develop collaborate relationships with organizations with resources, programs, or expertise, and/or access to an older adult population.

(d) Identify and implement a pre-developed program curricula for preventing fire and fall-related injuries among older adults utilizing home visits, group presentations, and other innovate outreach strategies.

(e) Collaborate with and provide training to participating fire and fall safety personnel, community workers and other volunteers to provide fire and fall safety education, and the proper installation and placement of interventions.

(f) Develop an evaluation plan that includes process, outcome and curricula evaluation.

(g) Development of a research protocol for IRB review by all cooperating institutions participating in the research project.

(h) Compile and disseminate results of intervention program.

Part IV—Multifaceted Teen and Young Adult Bicycle Safety Program

(a) Identify and coordinate program activities for three school-based programs in at least one high school, one junior high school and one college or university;

(b) Develop and plan a behavioral theory-based intervention to be implemented in the school setting and specific community activities that will be used to complement school-based efforts;

(c) Develop collaborative relationships with community based organizations, private organizations and public agencies already involved in injury prevention efforts targeting motorists and bicyclists;

(d) Implement the multifaceted program in all three school settings;

(e) Develop an evaluation plan that includes process, impact, and outcome data.

(f) Seek opportunities to expand the program to additional schools incorporating lessons learned;

(g) Development of a research protocol for IRB review by all cooperating institutions participating in the research project.

(h) Perform data analysis, compile results, and disseminate findings.

Part V—Multifaceted Program for the Prevention of Dog Bite Related Injuries

(a) Identify the target community whose population exceeds 300,000 with a documented stable crime rate.

(b) Establish a dog bite prevention coalition comprised of diverse disciplines.

(c) Conduct a community assessment to identify stakeholders, obtain baseline data on the magnitude of the problem; identify dog bite issues in the community, as well as previous dog bite prevention educational efforts.

(d) Identify existing dog bite prevention policies and regulations, and the extent to which they are enforced.

(e) Develop data collection procedures for identifying medically AND non-medically attended dog bites among the population.

(f) Develop an evaluation plan which includes both process and outcome evaluation.

(g) Adapt and implement school-based curriculum for target age groups to address bite prevention and responsible ownership.

(h) Develop and implement a multi-faceted community education program to reach adults, parents, and current and soon to be dog owners to address behavioral bite prevention measures and responsible dog ownership.

(i) Develop and implement educational plan or educational forum for health care and canine-related professionals.

(j) Develop and implement plan and materials for a media awareness campaign.

(k) Development of a research protocol for IRB review by all cooperating institutions participating in the research project.

(l) Compile and disseminate the results from the project.

2. CDC Activities for Five Priority Areas

(a) Provide technical consultation and advice on all aspects of recipient activities.

(b) Provide up-to-date scientific information about related injuries and prevention methods.

(c) Establish communication mechanisms by facilitating the transfer of technical and programmatic information.

(d) The CDC IRB will review and approve the protocol initially and on at least an annual basis until the research project is completed.

(e) Facilitate collaborate efforts to compile and disseminate program results through presentations and publications.

E. Application Content

Use the information in the Program Requirements, Other Requirements, and Evaluation Criteria sections to develop the application content. Your application will be evaluated on the criteria listed, so it is important to follow them in laying out your program plan. The narrative should be no more than 25 double-spaced pages, printed on one side, with one inch margins, and no smaller than 12 point font. Number each page consecutively and provide a complete table of contents. The entire application with appendices should be no longer than 70 pages total. The application must include a one-page abstract and summary of the proposed effort.

F. Submission and Deadline

Application

Submit the original and two copies of PHS 5161-1 (OMB Number 0937-0189) Forms are in the application kit. On or before July 10, 2000, submit the application to the Grants Management Specialist identified in the “Where To Obtain Additional Information” Section of this announcement.

Deadline

Applications shall be considered as meeting the deadline if they are either:

(a) Received on or before the deadline date; or

(b) Sent on or before the deadline date and received in time for submission to the independent objective review group. (Applicants must request a legibly dated U.S. Postal Service postmark or obtain a legibly dated receipt from a commercial carrier or U.S. Postal Service. Private metered postmarks shall not be acceptable as proof of timely mailing.)

Late Applications

Applications which do not meet the criteria in (a) or (b) above are considered late applications, will not be considered, and will be returned to the applicant.

G. Evaluation Criteria

Each application will be evaluated indidually against the following criteria by an independent review group appointed by CDC.

1. Background and Need (15 Percent)

The extent to which the applicant provides background information about the target communities (and control communities where applicable) and presents data justifying the need for the program in terms of magnitude of the injury problem using epidemiologic and local data.

The extent to which the applicant describes the benefits of developing, implementing, and evaluating the proposed intervention program.

The extent to which the applicant has the ability to accomplish the program, as demonstrated by relevant past or current injury prevention programs.

2. Goals, Objectives, and Methods (30 Percent)

The extent to which the applicant describes the overall goals and indicates the outcomes expected at the end of the project period.

The extent to which the applicant describes the specific program objectives needed to accomplish each goal. The extent to which the objectives are time-framed, measurable, and achievable.

The extent to which the applicant provides detailed descriptions (i.e., who, what, how, and when) of the specific activities that will be undertaken to achieve each of the program objectives.

The extent to which the applicant includes a detailed time-line for year one indicating when each activity will occur and the responsible person; and a projected time-line for the second and third years of program activities. Include an organizational chart that shows placement of the program within the agency's organizational system.

The extent to which the applicant provides detailed descriptions of the intervention design, implementation plans, and all methods that will be used in each phase of the intervention.

The extent to which the applicant clearly describes the methodology for establishing the magnitude of the problem in the target population to derive baseline measures.

The extent to which the applicant has the knowledge and documented skills needed to carry out data collection, entry, and management; analyze data and report findings; perform surveillance activities including record reviews; and conduct program evaluation.

Where applicable, the extent to which the applicant conforms to the CDC Policy requirements regarding the inclusion of women, ethnic, and racial groups in the proposed research. This includes:

1. The proposed plan for the inclusion of both sexes and racial and ethnic minority populations for appropriate representation.

2. The proposed justification when representation is limited or absent.

3. A statement as to whether the design of the study is adequate to measure differences when warranted.

4. A statement as to whether the plans for recruitment and outreach for study participants includes the process of establishing partnerships with community(ies) and recognition of mutual benefits.

3. Evaluation (25 Percent)

The extent to which the applicant provides detailed descriptions for evaluation of each program component and for the program overall, including process, impact, and outcome evaluations. Descriptions should include what data will be used, how it will be evaluated, how it will be collected, who will perform the evaluation including epidemiological analysis, and the time-frame for the evaluation. This should include progress in meeting the objectives and conducting activities during the project period.

The extent to which the applicant provides sample data collection and evaluation instruments.

The extent to which the applicant demonstrates that there will be available staff with the expertise and capacity to perform the proposed evaluation.

4. Collaboration (15 Percent)

The extent to which the applicant describes any proposed collaboration with other entities, especially, municipal departments, injury control research centers, professional organizations, local businesses, school systems, parent/teacher organizations, health care providers, fire departments, police, civic organizations, local public officials, and the media.

The extent to which the applicant provides the documented evidence of partnerships and access to local injury data.

The extent to which the applicant provides letters of commitment from each outside entity documenting their willingness, skills, and capacities to fulfill their specific roles and responsibilities.

The extent to which the applicant provides a clear description of the working relationships between the program and its partners.

5. Facilities, Staff, and Resources (15 Percent)

The extent to which the applicant demonstrates prior experience in the intervention area and has demonstrated the capacity for conducting and evaluating the proposed injury prevention program.

The extent to which the applicant describes the facilities and resources that are available for this program.

The extent to which applicant describes proposed staffing, and includes job descriptions and curriculum vitae indicating the applicant's ability to carry out the objectives of the program. Descriptions should include the position titles, education and experience, capabilities, and the percentage of time each person will devote to the program. Where applicable, identify a state and/or community program level coordinator(s) who has/have the authority, responsibility, and expertise to conduct and manage the program.

6. Budget and Justification (Not Scored)

The extent to which the applicant provides a detailed budget and narrative justification consistent with the stated objectives and planned program activities.

7. Human Subjects (Not Scored)

The extent to which the application adequately addresses the requirements of Title 45 CFR part 46 for the protection of human subjects.

H. Other Requirements

Technical Reporting Requirements

Provide CDC with original plus two copies of

1. Semiannual progress reports;

2. Financial status report, 90 days after the end of the budget period; and

3. Final financial status and performance reports, no more than 90 days after the end of the project period.

Send all reports to the Grants Management Specialist identified in the “Where To Obtain Additional Information” Section of this announcement.

The following additional requirements are applicable to this program. For a complete description of each, see Attachment I.

AR-1 Human Subjects Requirements

AR-2 Requirements for Inclusion of Women and Racial and Ethnic Minorities in Research

AR-7 Execute Order 12372 Review

AR-8 Public Health System Reporting Requirements

AR-9 Paperwork Reduction Act Requirements

AR-10 Smoke-Free Workplace Requirements

AR-11 Healthy People 2010

AR-12 Lobbying Restrictions

AR-13 Prohibition on Use of CDC Funds for Certain Gun Control Activities

I. Authority and Catalog of Federal Domestic Assistance Number

This program is authorized under section 301(a), 317(k)(2), 391, 392, 394, and 394A [42 U.S.C. 241(a), 247b(k)(2), 280b, 280b-1, 280b-2, 280b-3] of the Public Health Service Act, as amended. The Catalog of Federal Domestic Assistance number is 93.136.

J. Where To Obtain Additional Information

This and other CDC announcements can be found on the CDC home page on the Internet: http://www.cdc.gov. To receive additional written information and to request an application kit, call 1-888-GRANTS4 (1-888 472-6874). You will be asked to leave your name and address and will be instructed to identify the Announcement number of interest. Please refer to Program Announcement 00090 when making your request. If you have questions after reviewing the content of all documents, business management and assistance may be obtained from: Sheryl L. Heard, Grants Management Specialist, Grants Management Branch, Procurement and Grants Office, Announcement 00090, Centers for Disease Control and Prevention (CDC), 2920 Brandywine Road, Suite 3000, Atlanta, GA 30341-4146, Telephone (404) 488-2723, Email address slh3@cdc.gov.

For program technical assistance, contact:

Part I, Program to Increase Booster Seat Use Among Children Riding in Motor Vehicles. Tim W. Groza, MPA, Centers for Disease Control and Prevention, National Center for Injury Prevention and Control, 4770 Buford Highway N.E., Mailstop K63, Atlanta, GA 30341-3724, Telephone(770) 488-4676, Email: tgroza@cdc.gov.

Part II, Demonstration Program to Reduce Falls Among Older Adults. Mark Jackson, R.S., National Center for Injury Prevention and Control, Centers for Disease Control and Prevention, 4770 Buford Highway, NE, Mailstop K63, Atlanta, GA 30341-3724, Telephone (770) 488-4754, E-mail address: mcj4@cdc.gov.

Part III, Program to Prevent Fire and Fall-Related Injuries to Older Adults. Pauline Harvey, MSPH, National Center for Injury Prevention and Control, Centers for Disease Control and Prevention, 4770 Buford Highway, N.E., (K63), Atlanta, GA 30341-3724, Telephone: (770) 488-4592, E-mail: pdh7@cdc.gov.

Part IV, Multifaceted Teen and Young Adult Bicycle Safety Program. Mark Jackson, R.S., National Center for Injury Prevention and Control, Centers for Disease Control and Prevention, 4770 Buford Highway, NE, Mailstop K63, Atlanta, GA 30341-3724, Telephone (770) 488-4754, Email address: mcj4@cdc.gov.

Part V, Multifaceted Program for the Prevention of Dog Bite Related Injuries. Mark Jackson, R.S., National Center for Injury Prevention and Control, Centers for Disease Control and Prevention, 4770 Buford Highway, NE, Mailstop K63, Atlanta, GA 30341-3724, Telephone (770) 488-4754, E-mail address: mcj4@cdc.gov.

To order a copy of CDC's “Demonstrating Your Program's Worth: A Primer on Evaluation for Programs to Prevent Unintentional Injury”; “Remembering When: A Fire and Fall Prevention Program for Older Adults”; “Injury Control Recommendations: Bicycle Helmets”; and, “A Tool Kit to Prevent Senior Falls,” go to: http://www.cdc.gov/ncipc/pub-res.

Dated: April 24, 2000.
John L. Williams,
Director, Procurement and Grants Office, Centers for Disease Control and Prevention (CDC).

[FR Doc. 00-10684 Filed 4-27-00; 8:45 am]

BILLING CODE 4163-18-P